DEPARTMENT OF THE INTERIOR

Fish and Wildlife Service

Theodore Roosevelt National Wildlife Refuge Complex

AGENCY: Fish and Wildlife Service, Interior.

ACTION: Notice of availability of the Final Comprehensive Conservation Plan and Finding of No Significant Impact for five of the seven refuges that make up the Theodore Roosevelt National Wildlife Refuge Complex—Yazoo, Panther Swamp, Hillside, Morgan Brake, and Mathews Brake—as well as a number of smaller fee title properties and floodplain and conservation easements in the Mississippi Delta.

SUMMARY: The Fish and Wildlife Service announces that a Final Comprehensive Conservation Plan and Finding of No Significant Impact for the Theodore Roosevelt National Wildlife Refuge are available for distribution. The plan was prepared pursuant to the National Wildlife Refuge System Improvement Act of 1997, and in accordance with the National Environmental Policy Act of 1969, and describes how these refuges will be managed for the next 15 years.

ADDRESSES: A plan may be obtained by contacting complex manager Tim Wilkins at (662) 839-2638; fax (662) 839-2619, or by writing the complex manager at 728 Yazoo Refuge Road, Hollandale, Mississippi 38748. The plan may also be accessed and downloaded from the Service's Internet Web site http://southeast.fws.gov/planning/.

SUPPLEMENTARY INFORMATION: The Fish and Wildlife Service developed the comprehensive conservation plan to provide a foundation for the management and use of refuges in the Theodore Roosevelt National Wildlife Refuge Complex over the next 15 years. The Complex is comprised of seven refuges: Holt Collier (established in 2004), Hillside (established in 1975), Mathews Brake (established in 1980), Morgan Brake (established in 1977), Panther Swamp (established in 1978), Theodore Roosevelt (established in 2004), and Yazoo National Wildlife Refuge (established in 1936). Separate plans will be prepared for Holt Collier and Theodore Roosevelt Refuges.

Prior to January 2004, the Complex was known as the Central Mississippi National Wildlife Refuge Complex. When the January 23, 2004, Theodore Roosevelt National Wildlife Refuge Act (Section 145 of Pub. L. 108-199—the Consolidated Appropriations Act of 2004) was signed into law by President Bush, the Complex name was changed to the Theodore Roosevelt National Wildlife Refuge Complex. The Act also designated the geographically separate Bogue Phalia Unit of Yazoo Refuge as the new Holt Collier Refuge. The Act also directed the Secretary of the Interior to established the 6,600-acre Theodore Roosevelt National Wildlife Refuge. The two new refuges was assembled from Farm Service Agency (formerly known as Farmers Home Administration) lands already in Service possession. Management and uses of the two new refuges will be addressed in future comprehensive conservation plans.

The preferred action is to adopt and implement a comprehensive conservation plan that best achieves the purposes for which the Complex was established; furthers its vision and goals; contributes to the mission of the National Wildlife Refuge System; addresses significant issues and applicable mandates; and is consistent with principles of sound fish and wildlife management. Implementing the plan will enable the Complex to fulfill its critical role in the conservation and management of fish and wildlife resources in the Mississippi Delta and to provide quality environmental education and wildlife-dependent recreation opportunities for visitors. The Service analyzed four alternatives for management of the Complex and chose Alternative B as the preferred alternative.

The preferred alternative will promote a greater understanding and protection of fish, wildlife, and their habitats and provide quality, balanced recreational opportunities for visitors. Hunting and fishing will continue with greater emphasis on the quality of the experience. Education and interpretation will be promoted through regular programs and partnerships with local schools. Wildlife observation and photography opportunities will be expanded, including a canoe trail and observation towers, highlighting refuge management programs and unique wildlife habitats.

A visitor center and headquarters office will be constructed on Yazoo Refuge, with space for interpretation, environmental education, and staff.

Research studies on the refuge will be fostered and partnerships developed with universities and other agencies, providing needed resources and experiment sites while meeting the needs of the refuge's wildlife and habitat management programs. Research will also benefit conservation efforts throughout the Mississippi Delta to conserve, enhance, restore, and manage native habitat. New surveys on birds, reptiles, and amphibians will be initiated to develop baseline information.

Biological technicians, outdoor recreation planners, equipment operators, maintenance workers, and park rangers will be added to accomplish objectives for the following: establishing baseline data on refuge resources; managing habitats; providing opportunities and facilities for wildlife observation and photography; providing educational programs that promote a greater understanding of the refuge resources; and protecting natural and cultural resources and refuge visitors.

Under this alternative, the complex will continue to seek acquisition of lands within the present acquisition boundaries. Lands acquired as part of the Complex will be made available for compatible wildlife-dependent public recreation and environmental education opportunities, where appropriate. Lands that provide high-quality habitat and connectivity to existing refuge lands will be priority acquisitions. Equally important acquisition tools to be used include: transfer lands, partnerships with conservation organizations, conservation easements with adjacent landowners, and leases/cooperative agreements with state agencies.

Public comments were requested, considered, and incorporated throughout the planning process in numerous ways. Public outreach has included open houses, public meetings, technical workgroups, planning update mailings, and Federal Register notices. During the draft comprehensive conservation plan/environmental assessment comment period in October and November 2005, the Service received only one comment letter, which has been addressed through revisions incorporated in the final plan.

Authority: This notice is published under the authority of the National Wildlife Refuge System Improvement Act of 1997, Public Law 105-57.

Dated: January 23, 2006
Cynthia K. Dohner,
Acting Regional Director.

[FR Doc. 06-2673 Filed 3-20-06; 8:45 am]

BILLING CODE 4310-55-M